DEPARTMENT OF HOMELAND SECURITY

Office of the Secretary

Privacy Act of 1974; System of Records

AGENCY: Privacy Office, DHS.

ACTION: Notice of removal of one Privacy Act system of records notice.

SUMMARY: In accordance with the Privacy Act of 1974, the Department of Homeland Security is giving notice that it will remove one system of records notice from its inventory of record systems because Citizenship and Immigration Services, Customs and Border Protection, and Immigration and Customs Enforcement no longer requires the system. The obsolete system is Justice/INS-001 the Immigration and Naturalization Service Index System.

DATES: Effective Date: February 17, 2009.

FOR FURTHER INFORMATION CONTACT: Hugo Teufel III, Chief Privacy Officer, Department of Homeland Security, Washington, DC 20528, by telephone (703) 235-0780 or facsimile 703-483-2999.

SUPPLEMENTARY INFORMATION: Pursuant to the provisions of the Privacy Act of 1974, 5 U.S.C. 552a, and as part of its ongoing integration and management efforts, the Department of Homeland Security (DHS) is removing one U.S. Citizenship and Immigration Services (USCIS)/Customs and Border Protection (CBP)/Immigration and Customs Enforcement (ICE) system of records notice from its inventory of record systems.

DHS inherited this record system upon its creation in January of 2003. Upon review of its inventory of records systems, DHS has determined it no longer needs or uses this system of records and is retiring Justice/INS-001 the Immigration and Naturalization Service Index System (58 FR 51847 October 15, 1993).

Justice/INS-001 the Immigration and Naturalization Service Index System was originally established to collect and maintain records on the management, operational, and enforcement activities of the Immigration and Naturalization Service.

This system of records notice is compromised of twenty-one subsystems. These subsystems are covered under the following Federal Government or DHS SORNs:

(a) DHS/ALL-007 Accounts Payable Records (73 FR 61880 October 17, 2008)

• Financial Section Indices

(b) DHS/ALL-008 Accounts Receivable Records (73 FR 61885 October 17, 2008)

• Financial Section Indices

(c) DHS/USCIS-001 Alien File and Central Index System (72 FR 1755 January 16, 2007)

• Alien Documentation, Identification, and Telecommunications (ADIT) System

• Alien Enemy Index and Records

• Microfilmed Manifest Records

(d) DHS/ALL-010 Asset Management (73 FR 63181 October 23, 2008)

• Property Issued to Employees

(e) DHS/USCIS-007 Benefits Information System (73 FR 56596 September 29, 2008)

• Examination Indices

(f) DHS/ALL-021 Contractors and Consultants (73 FR 63179 October 23, 2008)

• Document Vendors and Alters Index

(g) DHS/ALL-016 Correspondence Files (73 FR 66657 November 10, 2008)

• Congressional Mail Unit Correspondence Control Index

• White House and Attorney General Correspondence Control Index

(h) OPM/GOV-10 Employee Medical File System Records (71 FR 35360 June 19, 2006)

• Health Record System

(i) DHS/ALL-014 Emergency Personnel Location Records (73 FR 61888 October 17, 2008)

• Emergency Reassignment Index

(j) DHS/ICE-CBP-CIS-001-03 Enforcement Operational Immigration Records (71 FR 13987 March 20, 2006)

• Enforcement Indices

(k) OPM/GOVT-1 General Personnel Records (71 FR 35342 June 19, 2006)

• Compassionate Cases System

(l) DHS/ALL-003 General Training Records (73 FR 71656 November 25, 2008)

• Extension Training Program Enrollees

(m) DHS/ALL-020 Internal Affairs (73 FR 67529 November 18, 2008)

• Office of Internal Audit Investigations Index and Records

Consistent with the publishing of the following two SORNs, this retirement will be in effect:

(n) DHS/ALL-024 Law Enforcement Authority in Support of the Protection of Property Owned or Occupied by the Federal Government

• Agency Information Control Record Index

• Intelligence Indices

• Alien Enemy Index and Records

(o) DHS/ALL-023 Personnel Security Management

• Automobile Decal Parking Identification System for Employees

• Personal Data Card System

• Security Access Clearance Index

Eliminating these systems of records notices will have no adverse impacts on individuals but will promote the overall streamlining and management of DHS Privacy Act record systems.

Dated: December 22, 2008.
Hugo Teufel III,
Chief Privacy Officer, Department of Homeland Security.

[FR Doc. E9-934 Filed 1-15-09; 8:45 am]

BILLING CODE 4410-10-P